DEPARTMENT OF COMMERCE

National Oceanic and Atmospheric Administration

RIN 0648-XG814

Public Conference Call Regarding Atlantic Bluefin Tuna Management Strategy Evaluation

AGENCY: National Marine Fisheries Service (NMFS), National Oceanic and Atmospheric Administration (NOAA), Commerce.

ACTION: Notice of public conference call.

SUMMARY: NMFS is holding a stakeholder meeting by conference call to provi de information on recent progress related to the International Commission for the Conservation of Atlantic Tunas (ICCAT) bluefin tuna management strategy evaluation (MSE). NMFS will also receive input on issues to be considered at an upcoming intersessional meeting of ICCAT's Panel 2, which will focus on initial operational management objectives for the bluefin tuna MSE. The conference call is open to the public.

DATES: An operator-assisted conference call that is open to the public will be held on February 28, 2019, from 1 p.m. to 2:30 p.m. EST. (phone number 800-857-9879; verbal password “ICCAT”). Participants are strongly encouraged to dial in 15 minutes prior to the meeting.

FOR FURTHER INFORMATION CONTACT: Terra Lederhouse at (301) 427-8360.

SUPPLEMENTARY INFORMATION: The International Commission for the Conservation of Atlantic Tunas (ICCAT) is hosting an intersessional meeting of its Panel 2 on March 4-7, 2019, in Madrid, Spain. ICCAT's Panel 2 is responsible for keeping under review the conservation and management of northern temperature tunas, including albacore and Atlantic bluefin. At its March 4-7 intersessional meeting, ICCAT's Panel 2 will seek to advance ongoing development of a management strategy evaluation (MSE) for Atlantic bluefin tuna. An MSE is a simulation that allows stakeholders (e.g., industry, managers, scientists, and non-governmental organizations) to assess how well different management strategies, such as harvest control rules, could meet the objectives of the fishery. Specifically, in accordance with the outcomes from the 21st Special Meeting of ICCAT, the intersessional meeting will focus on developing initial operational management objectives for the MSE.

For the conference call, NMFS will provide stakeholders with updates on the progress related to ICCAT's bluefin tuna MSE work, including recent meetings of ICCAT's Standing Committee on Research and Statistics (SCRS), ICCAT's scientific branch. Additionally, NMFS is interested in learning from stakeholders about preferred management objectives. NMFS will provide reasonable opportunity for public input and will announce the timing and format for such input at the beginning of the conference call.

Dated: February 21, 2019.
Paul Doremus,
Acting Director, Office of International Affairs and Seafood Inspection, National Marine Fisheries Service.

[FR Doc. 2019-03323 Filed 2-26-19; 8:45 am]

BILLING CODE 3510-22-P